DEPARTMENT OF LABOR

Employment and Training Administration

[SGA No. DFA 02-101]

Work Incentive Grants

AGENCY: Employment and Training Administration (ETA), DOL.

ACTION: Notice of availability of funds; Solicitation for Grant Applications (SGA).

This Notice Contains All of the Necessary Information and Forms Needed to Apply for Grant Funding.

SUMMARY: The U.S. Department of Labor (DOL), Employment and Training Administration (ETA), announces the availability of approximately $20 million to award competitive grants designed to enhance the employability, employment and career advancement of people with disabilities through enhanced service delivery in the new One-Stop delivery system established under the Workforce Investment Act of 1998 (WIA). The Work Incentive Grant program will provide grant funds to consortia and/or partnerships of public and private non-profit entities working in coordination with the One-Stop delivery system to augment the existing programs and services and ensure programmatic access and streamlined, seamless service delivery for people with disabilities.

DATES: Applications will be accepted commencing on the date of publication of this solicitation. The closing date for receipt of applications under this announcement is January 28, 2002. Applications must be received by 4 p.m. (EST) at the address below. No exceptions to the mailing and hand-delivery conditions set forth in this notice will be granted. Applications that do not meet the conditions set forth in this notice will not be honored.

ADDRESSES: Applications shall be mailed to: U.S. Department of Labor, Employment and Training Administration, Division of Federal Assistance, Attention: Ms. Yvonne Harrell, SGA/DFA 02-101, 200 Constitution Avenue, NW., Room S-4203, Washington, DC 20210.

FOR FURTHER INFORMATION, CONTACT: Questions should be faxed to Ms. Yvonne Harrell, Grants Management Specialist, Division of Federal Assistance, Fax (202) 693-2879 (this is not a toll-free number). All inquiries should include the SGA number (DFA 02-101) and a contact name, fax and phone numbers. This announcement will also be published on the Internet on the ETA's disAbility online Home Page at: http://wdsc.doleta.gov/disability/, and the ETA homepage at http://doleta.gov. Award notifications will also be published on the ETA homepage.

Delivery of Applications

1. Late Applications. Any application received after the exact date and time specified for receipt at the office designated in this notice will not be considered, unless it is received before awards are made and it (a) was sent by U.S. Postal Service registered or certified mail not later than the fifth calendar day before the date specified for receipt of applications (e.g., an application submitted in response to a solicitation requiring receipt of applications by the 20th of the month must have been post marked by the 15th of that month); or (b) was sent by the U.S. Postal Service Express Mail Next Day Service to addressee not later than 5 p.m. at the place of mailing two working days prior to the date specified for receipt of applications. The term “working days” excludes weekends and Federal holidays. “Post marked” means a printed, stamped or otherwise placed impression (exclusive of a postage meter machine impression) that is readily identifiable, without further action, as having been supplied or affixed on the date of mailing by an employee of the U.S. Postal Service.

2. Withdrawal of Applications. Applications may be withdrawn by written notice or telegram (including mail gram) received at any time before an award is made. Applications may be withdrawn in person by the applicant or by an authorized representative thereof, if the representative's identity is made known and the representative signs a receipt of the proposal.

3. Hand-Delivered Proposals. It is preferred that applications be mailed at least five days prior to the closing date. To be considered for funding, hand-delivered applications must be received by 4 p.m., EST, at the specified address. Failure to adhere to the above instructions will be basis for a determination of non-responsiveness. Overnight express mail from carriers other than the U.S. Postal Service will be considered hand-delivered applications and MUST BE RECEIVED by the above specified date and time.

SUPPLEMENTARY INFORMATION:

Part I. Authority

Provisions relating to the One-Stop delivery system are at sections #121, 134(c), 189(c) of the Workforce Investment Act (29 U.S.C. 2841, 2864(c), 2939(c); Wagner-Peyser Act (29 U.S.C. 49f(e)) and Department of Labor Appropriations Act for 2001 (Pub. L.106-554). Regulations governing the Workforce Investment Act are at 20 CFR parts 652, 660 “ 671, #(65 FR 49294 (August 11, 2000)).

Part II. Background

The Workforce Investment Act of 1998 (WIA) establishes comprehensive reform of existing Federal job training programs with amendments impacting service delivery under the Wagner-Peyser Act, Adult Education and Literacy Act, and the Rehabilitation Act. WIA also repeals and supersedes the Job Training Partnership Act. A number of other Federal programs are also identified as required partners in the One-Stop delivery system in order to provide comprehensive services for all Americans to access the information and resources available to assist them in the development and implementation of their career goals. The intention of the One-Stop system is to establish programs and providers in co-located and integrated settings that are accessible for individuals and businesses alike in approximately 600 workforce investment areas established throughout the nation.

WIA establishes State and Local Workforce Investment Boards focused on strategic planning, policy development, and oversight of the workforce system with significant authority for the Governor and chief elected officials in local areas to build on existing reforms in order to implement innovative and comprehensive workforce investment systems. Recognizing that many One-Stop delivery systems may not currently have the capacity to provide comprehensive services to people with disabilities, the Work Incentive Grant is designed to provide seed monies to support the development of the One-Stop infrastructure with an objective of achieving model, seamless and comprehensive services for people with disabilities.

Many people with disabilities are looking to the new workforce investment system to address their employment and training needs in a progressive, enlightened environment with cutting-edge technologies. They also expect the One-Stop delivery system to provide comprehensive services to meet multiple barriers, which frequently limit their access to a productive, economically rewarding work life. These services may include, but are not limited to, the availability of basic skill development; vocational skill training or advanced educational opportunities; apprenticeship and entrepreneurial training; transportation assistance to reach training or employment sites; housing assistance or advice on retaining existing housing upon employment; and access to medical health coverage upon employment. Twenty-three Work Incentive Grants were awarded at the end of Fiscal Year 2000 as the first round of this grant program. If you would like more information on last year's Work Incentive Grant awards, please go to http://wdsc.doleta.gov/disability/.

This Solicitation for Grant Applications (SGA) is for grant awards under the Work Incentive Grant program with funds made available July 1, 2001, under the Fiscal Year 2001 appropriation. The Work Incentive Grant program is consistent with the objectives of the President's New Freedom Initiative. This year's Work Incentive Grant announcement places a greater emphasis on addressing infrastructure inadequacies and programmatic access of the One-Stop system for people with disabilities and includes making a larger proportion of grant funds available for procuring assistive technology and establishing adequate employment counseling capacity than did previous work incentive grants.

The Department of Labor's Office of Disability Employment Policy (ODEP) also has several grant initiatives underway. These include a Customized Employment Grant, Innovative Demonstration Programs for WIA-assisted Youth, High-School/High Tech Start-up and Realignment Grants, and WIA Disability Technical Assistance Consortia. The Customized Employment Grants are distinct from ETA's Work Incentive Grants in that the ODEP grants will be awarded to Local Workforce Investment Boards to develop comprehensive, strategic and cutting-edge models of service delivery for individuals with disabilities who have never been employed, whose experience is limited to subsidized employment, or may be considered unable to be employed. The Customized Employment grants will involve cutting edge approaches such as use of customized employment strategies and the active involvement of programs of both required and non-required partners of the workforce system. If you would like more information on the ODEP grants and other programs administered by ODEP, please go to: http://www.dol.gov/dol/odep/.

Part III. Funding Availability and Period of Performance

The Department of Labor anticipates awarding approximately 20-40 grants ranging from $500,000 to $1 million. The period of performance will be approximately 30 months from the date of execution by the Department. The grant funds would be available for expenditure until June 30, 2004, when the authority for these funds will expire. The Department may elect to extend these grants based on the availability of funds and satisfactory performance.

Part IV. Eligible Applicants

Eligible applicants are State or Local Workforce Investment Boards (“State Boards” or “Local Boards”), established under the Workforce Investment Act of 1998 (WIA) working in partnership with other state and/or local, public and/or private non-profit, disability-related organizations. We encourage State or Local Board to be the lead applicant. However, if the State or Local Board is not the lead it must be a partner in the consortium. Eligible applicants partnered with State or Local Broads may be:

• State/local public agencies such as Vocational Rehabilitation, Mental Health, Mental Retardation/Developmental Disability, or Temporary Assistance for Needy Families (TANF); and/or

• Private non-profit organizations such as Centers for Independent Living (CIL's), disability advocacy, provider organizations, federally-funded disability grant entities, and other non-profit organizations, including faith-based entities, which provide services and/or advocacy for people with disabilities.

The lead administrative and fiscal agent applying for the grant must be identified in the application.

Applications can be statewide in scope. Statewide applications must propose strategies for enhancing and improving services to people with disabilities involving all local workforce investment areas in the State. State-wide grant projects should obtain and provide letters of commitment from Local Boards to the extent possible. However, a statewide project must include the State Board as a consortium partner, with applicable letters of commitment provided in the application.

Applications that are not state-wide projects but which involve one or more local workforce investment areas should also include letters of commitment from each Local Board covered under the grant, or one letter of commitment signed by all Local Boards in the local area (if all commitments cannot be obtained, explanation must be provided). Current Work Incentive grantees may apply under this solicitation, but must cover an increased number of workforce investment areas; identify significant need; address outstanding deficiencies or a significant improvement to the local workforce investment system.

Indian and Native American Tribal entities, or consortia of Tribes, may apply for Work Incentive Grants. These grants would involve coordination of services and enhancements to an One-Stop system approach for people with disabilities in a specific Indian community or covering multiple Tribal entities which may cut across multiple States and/or workforce investment areas. In such cases, letters of commitment from Local Boards may not be applicable. Grants to Indian and Native American tribal grantees are treated differently because of sovereignty and self-governance established under the Indian Self-Determination and Education Assistance Act allowing for the government-to-government relationship between the Federal and Tribal Governments.

Note: Except as specifically provided, DOL/ETA acceptance of a proposal and an award of federal funds to sponsor any program(s) does not provide a waiver of any grant requirement and/or procedures. For example, the OMB circulars require that an entity's procurement procedures must require that all procurement transactions must be conducted, as practical, to provide open and free competition. If a proposal identifies a specific entity to provide the services, the DOL/ETA's award does not provide the justification or basis to sole-source the procurement, i.e., avoid competition.

Part V. Format Requirements for Grant Application

General Requirements—Applicants must submit one (1) copy with an original signature and 2 additional copies of their proposal. The Application Narrative must be double-spaced, and on single-sided, numbered pages with the exception of format requirements for the Executive Summary. The Executive Summary must be limited to no more than two single-spaced, single-sided pages. A font size of at least twelve (12) pitch is required throughout.

There are three required sections of the application. Requirements for each section are provided in this application package. Applications that fail to meet the requirements will not be considered.

Section I—Project Financial Plan

Section II—Executive Summary—Project Synopsis

Section III—Project Narrative (Including Appendices, Not To Exceed 40 Pages)

Section I. Project Financial Plan—Section I of the application must include the following two required elements: (1) Standard Form (SF) 424, Application for Federal Assistance, and (2) Budget Information Form and budget narrative. The application must include one SF 424 with the original signatures of the legal entity applying for grant funding and 2 additional copies. Applicants shall indicate on the SF 424 the organization's IRS Status, if applicable. Under the Lobbying Disclosure Act of 1995, section 18 (29 U.S.C. 1611), an organization described in section 501(c)(4) of the Internal Revenue Code of 1986 which engages in lobbying activities shall not be eligible for the receipt of federal funds constituting an award, grant, or loan. The Catalog of Federal Domestic Assistance (CFDA) number is 17.207.

The Project Financial Plan will not count against the application page limits. The financial plan must describe all costs associated with implementing the project that are to be covered with grant funds. All costs should be necessary and reasonable according to the Federal guidelines set forth in the “Uniform Administrative Requirements for Grants and Cooperative Agreements to State and Local Governments,” (also known as the “Common Rule”) codified at 29 CFR part 97, and “Grants and Agreements with Institutes of Higher Education, Hospitals, and Other Non-Profit Organizations (also known as OMB Circular A-110), codified at 29 CFR part 95, and must comply with the applicable OMB cost principles circulars, as identified in 29 CFR 95.27 and 29 CFR 97.22(b).

The financial plan must contain the following parts:

• Completed “SF 424—Application for Federal Assistance” (See Appendix A of this SGA for required form).

• Completed “Budget Information Form” by line item for all costs required to implement the project design effectively. (See Appendix B of this SGA for required forms.)

• Budget narrative/justification, which provides sufficient information to support the reasonableness of the costs, included in the budget in relation to the service strategy and planned outcomes.

Please Note: Work Incentive Grant project designs may incorporate procurement or implementation of software or hardware to assure assistive and accessible technologies in the One-Stop setting, which may equal up to 40% of the grant award.

Section II. Executive Summary—Project Synopsis [Format requirements for the Executive Summary are limited to no more than two single-spaced, single-sided pages]

Each application shall include a project synopsis, which identifies the following:

• The applicant;

• The type of organization the applicant represents;

• Identification of consortium partners and the type of organizations they represent;

• The project service area;

• Whether the service area is an entire local workforce investment area, more than one local area, or all local areas in a State;

• The specific areas of focus in the announcement which are addressed by the project;

• The amount of funds requested;

• The planned period of performance;

• The comprehensive strategy proposed for providing seamless service delivery, for addressing the multi-faceted barriers to training and employment which affect people with disabilities, and for improving access for people with disabilities in the generic workforce system;

• The ways in which the proposal is coordinated with other disability related grant initiatives from DOL, Department of Education (ED), Department of Health & Human Services (HHS), Social Security Administration (SSA), Department of Housing & Urban Development (HUD) or other Federal partners

• How counseling and other support needs will be addressed in the One-Stop Center system;

• The actions already taken by the State or Local Workforce Investment Board to address the needs of people with disabilities in the One-Stop delivery system;

• The extent to which the One-Stop facilities and satellite site(s) incorporate physical access for people with disabilities;

• The extent to which Vocational Rehabilitation is integrated or coordinated with the One-Stop delivery system;

• Data on the extent to which people with disabilities have been served under the Wagner-Peyser Act and previously, under the Job Training Partnership Act, and WIA;

• The level of commitment the applicant and consortium members have to serving people with disabilities; and

• The extent and manner in which the needs of individuals with disabilities from diverse cultural and/or ethnic groups will be addressed.

Section III. Project Narrative [Format requirements limited to no more than forty (40) double-spaced, single-sided, numbered pages. Note: The Executive Summary is not included in this forty (40)-page limit].

Section III of the application, the project narrative, the Government Requirements/Statement of Work section, as described below in the “Required Content for Work Incentive Grant Applications—Program Year 2001.” The forty (40)-pages limit includes any Attachments, which are provided by the applicant. Letters of general support or recommendation for a proposal should NOT be submitted and will count against the page limits. However, letters of commitment or a commitment signatory page are required from partner/consortia organizations, including State and/or Local Workforce Investment Board(s) clearly stating their intent to provide services and resources to the grant. As noted in Part IV of this solicitation, (Eligible Applicants), should also include letters of commitment from each Local Board covered under the grant, or one letter of commitment signed by all Local Boards in the local area (if all commitments cannot be obtained, explanation must be provided).

Part VI. Monitoring and Reporting

Monitoring

The Department shall be responsible for ensuring the effective implementation of each competitive grant project in accordance with the provisions of this announcement and the negotiated grant agreement. Applicants should assume that Department staff, or their designees would conduct on-site project reviews, periodically. Reviews will focus on timely project implementation, performance in meeting the grant's programmatic goals and objectives, expenditure of grant funds on allowable activities, integration and coordination with other resources and service providers in the local area, and project management and administration in achieving project objectives. Work Incentive Grants may be subject to other additional reviews at the discretion of the Department.

Reporting

Grantees will be required to submit quarterly financial and narrative progress reports under the Work Incentive Grant program covering the workforce area(s) included in the grant project design. DOL will analyze data of workforce investment area(s) reports submitted annually under the Workforce Investment Standardized Record Data (WIASARD) for workforce areas covered under the grant. [Note: Information on the WIASRD can be found under performance accountability at http://workforce.org].

• Financial reporting will be required quarterly using the Standard Form 269—Financial Status Report (FSR).

• A narrative progress report will be required quarterly.

• The Department of Labor plans to establish a process report on a semi-annual basis which includes summary information pertaining to WIA implementation and the numbers of people with disabilities registered, receiving training services, and employed through the One-Stop system. [Note: DOL will seek OMB review for the collection of this data].

The Department will establish performance goals with successful applicants that are consistent with the Department's Government Performance and Results Act (GPRA) goals.

Part VII. Rating Criteria

The Project Narrative, or Section III, of the grant application should provide complete information on how the applicant will address the Department of Labor's priorities for the Fiscal Year (FY) 2001 Work Incentive Grant program to achieve enhancements to the basic infrastructure and service delivery of the One-Stop system, in particular Wagner-Peyser and WIA-funded programs. These are:

• Developing comprehensive One-Stop Centers which are welcoming and are valued providers of choice by customers with disabilities seeking workforce assistance by assuring the availability of staff trained on disability issues, personalized employment counseling, coordinated planning support related to employment barriers and incentives, and availability of accommodations and assistive technologies for diverse disability needs.

• Implement strategies, which significantly increase opportunities for skill training, employment and workforce inclusion of people with disabilities resulting in self-sustaining employment and career advancement through participation in the One-Stop system.

The applicant should address government requirements and statement of work provisions outlined here as these address the applicant's needs and project design to achieve the Department's priorities. Therefore, all four criteria must be addressed but each item under the criteria does not necessarily have to be incorporated in the applicant's proposal design. At the same time, it is important to provide full information on the status of the workforce environment as it impacts people with disabilities.

1. Statement of Need [25 points]

• Identify the number of workforce areas in the State and the geographic jurisdiction of each local workforce investment area(s) in the State.

• Identify which local areas(s) in the State will be covered by the project and whether the project is Statewide, involves multiple local areas or is for a single local area.

• Identify whether a Work Incentive Grant award was received in the FY 2000 competition covering the identified workforce investment areas in this application and the reasons for application under this Solicitation for Grant Application.

• Identify consortium members if any, their primary mission irrespective of participation in the grant proposal, and what political and geographic jurisdictions (e.g., cities, counties, subsections of cities/counties) they cover.

• Describe how the project will address a primary objective of the Work Incentive Grant program to assure the integration of people with disabilities into the workforce investment system, including the availability of Wagner-Peyser and WIA Title I programs and services.

• Identify the percentage of people with disabilities in the State and/or local area, including the percentage of people who are beneficiaries of Social Security Disability Insurance (SSDI) and/or Social Security Income Program (SSI).

• Identify the most recent unemployment rate(s) in the workforce investment area(s) covering the project.

• Describe any significant deficiencies in the State or local workforce investment system that represent barriers to employment for people with disabilities and what will be accomplished under this grant to address them.

• Identify additional State and/or local funds and resources that will be used to support the overall objectives of the grant and which will assist in addressing the identified issues the grant project is addressing.

• For proposals targeted to a specific Indian community or covering multiple Tribal entities which may cut across multiple States and/or local areas, describe the overall approach of the project, and identify the inadequacies and deficiencies of the service delivery to the applicable community, and how the project expects to address these.

• Recognizing that the One-Stop delivery system may not have extensive knowledge or skills in working with people with disabilities, describe the level of expertise of the One-Stop system in the local area(s) addressed in the grant and the projects plans for addressing inadequacies.

• Describe the overall status and actions taken to-date by the One-Stop delivery system to address services to people with disabilities. This should include actions to ensure that, State and/or local facilities are physically and programmatically accessible; training is provided to staff; that the number and percent of people with disabilities receiving services under Job Training Partnership Act (JTPA), WIA and Employment Service programs during the previous three years compared with that of people without disabilities; plans to increase services to people with disabilities, if applicable.

• Describe coordination and linkage with regional Disability Business and Technical Assistance Centers (DBTAC's) and State Governors Committees on Employment of People with Disabilities. For example, Have DBTAC's provided training to the One-Stop delivery system on the Americans with Disabilities Act (ADA), section 504 of the Rehabilitation Act, or other disability-related training? If not, are plans to do so incorporated into the applicant project?

• Identify public and private non-profit provider entities participating under Job Training Partnership Act (JTPA), WIA and Employment Service grant program, and which barriers to employment their programs and services that are contributing to the overall applicant proposal may address. Specifically, describe State or local area provisions regarding Medicaid and/or Medicare coverage; current transportation infrastructure; how individuals with all types of disabilities will access training, employment, housing, food stamps and other supportive services.

2. Comprehensive Service Strategy [25 points]

• Identify how you will ensure that trained staff are available to provide counseling or employment planning support who have adequate knowledge of diverse disabilities and information on the following:

• Education and training program options and opportunities available under a broad array of programs such as Adult Education, Individuals with Disability Education Act for those under 22 without a high school degree, Vocational Education, Vocational Rehabilitation and School-to-Work programs for adults and youth with disabilities;

• Services and resources for a wide range of disabilities, which may include both documented and undocumented physical, sensory, developmental/cognitive (e.g., mental retardation and learning disabilities, among others), mental and other health related functional disabilities;

• Tax benefits and incentives to employers of people with disabilities that provide financial support for workplace modifications and accommodations;

• Entrepreneurial, job carving and other employment options for people with disabilities;

• Impact of employment on individual benefits such as SSDI, SSI, TANF, Medicaid, Medicare, subsidized housing, and food stamps;

• Availability of Social Security work incentive programs and Ticket to Work options available to SSDI and SSI recipients; and

• Other resources available to assure successful employment and job retention such as transportation and housing options.

• Describe changes to be achieved under the grant to create seamless service delivery for One-Stop customers with disabilities.

• Describe the process that will be used to maintain and expand the service structure for individuals with disabilities accessing the workforce investment system.

• Describe how people with disabilities who are not eligible for Vocational Rehabilitation services or do not fall under the State's Order of Selection will be served through Wagner-Peyser services or WIA services through the Adult, Dislocated Worker, Youth or National Programs, including programs and services under the Older Americans Act.

• Identify the provisions of Memoranda of Understanding or other agreements between the partners, State Vocational Rehabilitation (VR) Agency, the State Rehabilitation Council, and the State or Local Boards in terms of the provision of services to people with disabilities; the plans for cost sharing; the arrangements for referral of people with disabilities between WIA Title I programs and VR as appropriate; the extent of integration and co-location of VR in One-Stop Centers, including sharing of Management Information Systems (MIS) or participation in case management data base technologies; the extent to which there is joint funding of participant services or leveraging of funds to expand access to services; and use of Individual Training Accounts (ITA's) for people with disabilities.

• Describe linkages with the State and local Independent Living Center (CIL) systems; Mental Health Departments, Mental Retardation/Developmental Disability Agencies, State Councils on Developmental Disabilities, State Vocational Rehabilitation, and Councils on Employment and other local provider or advocate organizations serving individuals with developmental and/or psychiatric disabilities, including how these agencies fit in a comprehensive service delivery strategy.

• Describe coordination and linkages with Learning Disabilities and Training Dissemination hub centers established under grants from the U.S. Department of Education's Office of Vocational and Adult Education and how these may be used to provide services to people with learning and other disabilities.

• Identify how State TANF programs and Welfare to Work (WtW) competitive grant projects will be linked or leveraged with objectives of the applicant's project.

• Identify plans and strategies to develop the capacity of the comprehensive One-Stop Center to function as an Employment Network under the Ticket to Work & Work Incentive Improvement Act (TWWIIA). Project plans in this regard should involve building the capacity of the WIA Title I programs and One-Stop system so that more in-depth services and information will be readily available to individuals with disabilities at the comprehensive One-Stop Center. The description of increased capacity must be an adjunct to the State Vocational Rehabilitation Agency, which is an automatic Employment Network provider under the TWWIIA.

• Describe how the project will be coordinated with grant programs, which are funded under the SSA Benefits Planning, Assistance and Outreach Cooperative Agreement and HHS Medicaid Infrastructure Grant programs, if applicable.

3. Innovation and Model Services [25 points]

• Describe your strategy for substantially increasing the number and percent of people with disabilities served, trained and entered into unsubsidized employment through the One-Stop Center system, particularly in WIA Title I programs. This should be related to, or refer back to, service delivery history under JTPA and the first year of WIA identified under the Statement of Need.

• Describe the status of accessible technologies within the Comprehensive One-Stop and plans to procure and implement accessible technologies, including video interpreting services for clients who are deaf or electronic door openers for wheelchair users, and how they address current system deficiencies.

• Identify the scope of technology implementations, if applicable, and the extent to which implementation is comprehensive and across the workforce area(s) and/or statewide.

• Identify whether assessment tools are used to identify individuals with learning disabilities in the One-Stop delivery system, including plans and processes to identify applicable assessment tools, train staff and incorporate such assessments as part of the service delivery structure.

• Describe how public supports needed by people with disabilities may be affected by their employment or training and State or local conditions, and actions to sustain benefits and services following successful job placement. For example, does the State or local area have provisions to continue supported or Section 8A housing (The Housing Act of 1992, Title IV), where applicable, for individuals who enter unsubsidized employment?

• Has the State adopted Medicaid “buy-in” options, or are there Medicaid waivers that extend health care coverage for individuals who enter employment?

• Describe plans for outreach and marketing to the disability community and organizations which represent or work with people with disabilities; and plans for training disability-related organizations on the resources and programs available to them in the One-Stop system.

• Identify individualized strategies that establish client control of training funds, VR funds, ITA's, or other funding sources to which these individuals may have access, and co-mingle funds in a seamless, customer friendly manner, including plans for obtaining waivers to the extent program requirements necessitate this.

• Identify plans or strategies to deploy Ticket to Work voucher provisions for beneficiaries of SSDI and recipients of SSI.

• Describe strategies to foster entrepreneurial and self-employment options using ITA's, Plans for Achieving Self-Support (PASS) and other SSA work incentives, and Medicaid coverage for individuals with disabilities who start or return to work.

• Describe specific approaches for developing relationships with and support of area employers that establish employment opportunities for individuals with disabilities accessing the One-Stop delivery system, including any commitments by employers to hire these individuals.

• Describe how opportunities for competitive employment for individuals with disabilities will be provided or developed within the local workforce investment area and how this is unique or different than what is normally performed by the applicant(s).

• Identify available Federal and State tax incentives available to employers when hiring an individual with a disability; how this information will be marketed and disseminated to employers, the individual and workforce staff; and how employers may use such tax credits to address structural and technological accommodation needs.

• Describe opportunities for increasing integrated, competitive employment through use of strategies such as individualized job development for individuals with the most significant disabilities currently working in segregated facilities or waiting for employment services.

4. Demonstrated Capability [25 points]

• Identify whether the State or Local Boards will be the lead for the grant project and how they will include the disability community in plans.

• Identify the critical activities, time frames and responsibilities for effectively implementing the project, including the management and evaluation process for assuring successful implementation of grant objectives.

• Include a project organizational chart, which identifies the staff with key management responsibilities, including a matrix of organizational responsibilities of key entities and participating consortium organizations, where applicable.

• Describe the specific experience of the applicant(s) in serving people with disabilities, in providing workforce services, in addressing specific barriers to employment, in achieving expected outcomes in the delivery of such services/programs, and in implementing and administering specific project plans of the grant project. For example, such information might include the local Department of Transportation as a key partner agency addressing transportation barriers and how this entity has participated in similar efforts in the past and the success of these past efforts, and potential success of coordination on the applicant(s) grant project.

Part VIII. Review Process and Evaluation Criteria

A careful evaluation of applications will be made by a technical review panel, which will evaluate the applications against the criteria listed in this SGA. The panel results are advisory in nature and not binding on the Grant Officer. The Department may elect to award grants either with or without discussion with the offeror. In situations without discussions, an award will be based on the offeror's signature on the SF 424, which constitutes a binding offer. The Grant Officer may consider any information that is available and will make final award decisions based on what is most advantageous to the Government, considering factors such as:

• Panel findings;

• Geographic distribution of the competitive applications;

• The availability of funds.

Signed at Washington, DC, this 11th day of December, 2001.
James W. Stockton,
Grant Officer.

Appendix “A”—Application for Federal Assistance (SF-424) (with instructions)

Appendix “B”—Budget Information Form (with budget narrative instructions)

Appendix “C”—Application Cover Sheet

BILLING CODE 4510-30-P

[FR Doc. 01-30923 Filed 12-13-01; 8:45 am]

BILLING CODE 4510-30-C